DEPARTMENT OF THE INTERIOR

Fish and Wildlife Service

50 CFR Part 17

[Docket No. FWS-R2-ES-2021-0015; FF09E21000 FXES1111090FEDR 234]

RIN 1018-BB27

Endangered and Threatened Wildlife and Plants; Lesser Prairie-Chicken; Threatened Status With Section 4(d) Rule for the Northern Distinct Population Segment and Endangered Status for the Southern Distinct Population Segment

AGENCY: Fish and Wildlife Service, Interior.

ACTION: Final rule.

Correction

In the rule document 2022-25214 beginning on page 72674 of the issue of Friday, November 25, 2022, make the following correction:

§ 17.41 [Corrected]

On page 72754, following Figure 1 to paragraph (k), in the first column, add the following paragraph:

(1) Prohibitions. The following prohibitions that apply to endangered wildlife also apply to the Northern DPS of the lesser prairie-chicken. Except as provided under paragraph (k)(2) of this section and §§ 17.4 and 17.5, it is unlawful for any person subject to the jurisdiction of the United States to commit, to attempt to commit, to solicit another to commit, or cause to be committed, any of the following acts in regard to this species:

[FR Doc. C1-2022-25214 Filed 12-1-22; 8:45 am]

BILLING CODE 0099-10-D